FEDERAL COMMUNICATIONS COMMISSION

Notice of Public Information Collection(s) Being Reviewed by the Federal Communications Commission, Comments Requested

June 27, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before September 5, 2000. If you anticipate that you will be submitting comments, but find it difficult to do so within the period of time allowed by this notice, you should advise the contact listed below as soon as possible.

ADDRESSES: Direct all comments to Les Smith, Federal Communications Commissions, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0942

Title: In the Matter of Access Charge Reform, Price Cap Performance Review for Local Exchange Carriers, Low-Volume Long Distance Users, Federal-State Joint Board on Universal Service.

Form No.: N/A.

Type of Review: Extension.

Respondents: Business or other for profit.

Number of Respondents: 27.

Estimated Time Per Response: 473.5 Hours (avg.).

Total Annual Burden: 12,785 Hours.

Estimated Annual Reporting and Recordkeeping Cost Burden: $0.

Frequency of Response: On occasion; Quarterly; Annually; Recordkeeping; Third Party Disclosure.

Needs and Uses: In CC Docket Nos. 96-262, 94-1, 99-249 and 96-45 (FCC 00-193), the Commission adopted an integrated interstate access reform and universal service proposal put forth by the members of the Coalition for Affordable Local and Long Distance Service (CALLS). The CALLS Proposal resolves major outstanding issues concerning access charges. In order to implement the CALLS Proposal, the Commission adopted information collection requirements: (1) For price cap LECs to modify their annual tariff filings to conform with the interstate access reforms in the CALLS Proposal; (2) for price cap LECs to and competitive LECs seeking to receive support from the interstate access universal service support mechanism to file line counts by zone and customer class, revenue data and information regarding zone boundaries. Competitive LECs seeking funds also have to file USAC line counts by zone and customer class; (3) for price cap LECs that elect to file cost support information to calculate their access rates.

OMB Control Number: 3060-0932.

Title: Application for Authority to Make Changes in a Class A TV Broadcast Station.

Form Number: FCC 301-CA.

Type of Review: Extension of currently approved collection.

Respondents: Businesses or other for-profit; Not-for-profit institutions; state, local or tribal government.

Number of Respondents: 300.

Estimated time per response: 15-20 hours (time is split between contractors and respondents, depending on type of application).

Frequency of Response: Reporting, on occasion.

Total annual burden: 2,100.

Total annual costs: $1,709,400.

Needs and Uses: The FCC 301-CA is to be used in all cases by a Class A television station licensees seeking to make changes in the authorized facilities of such station. The FCC 301-CA requires applicants to certify compliance with certain statutory and regulatory requirements. Detailed instructions provide additional information regarding Commission rules and policies.

Class A applicants are also subject to third party disclosure requirement of Section 73.3580 which requires local public notice in a newspaper of general circulation of the filing of all applications for major changes in facilities. This notice must be completed within 30 days of the tendering of the application. This notice must be published at least twice a week for two consecutive weeks in a three-week period. A copy of this notice must be placed in the public inspection file along with the application.

The FCC 301-CA is designed to track the standards and criteria which the Commission applies to determine compliance and to increase the reliability of applicant certifications. They are not intended to be a substitute for familiarity with the Communications Act and the Commission's regulations, policies, and precedent.

OMB Approval No.: 3060-0928.

Title: Application for Class A Television Broadcast Station Construction Permit or License.

Form No.: FCC 302-CA.

Type of Review: Extension of currently approved collection.

Respondents: Businesses or other for-profit, not-for-profit institutions.

Number of Respondents: 958.

Estimated Hours Per Response: 2 hours.

Frequency of Response: on occasion.

Cost to Respondents: $210,760.

Estimated Total Annual Burden: 1,916.

Needs and Uses: FCC Form 302-CA is used by LPTV stations that seek to convert to Class A status. The FCC Form 302-CA requires a series of certifications by the Class A applicant as prescribed by the CBPA. Licensees are required to provide weekly announcements to their listeners informing them that the applicant has applied for a Class A license, and announcing the public's ability to comment on the application prior to Commission action. The data is used by FCC staff to confirm that the station has met the eligibility standards to convert their licenses to Class A status. Data is then extracted from FCC Form 302-CA for inclusion in the subsequent license to operate the station.

Federal Communications Commission.
Magalie Roman Salas,
Secretary.

[FR Doc. 00-17050 Filed 7-5-00; 8:45 am]

BILLING CODE 6712-01-P